NATIONAL COUNCIL ON DISABILITY (NCD)

Sunshine Act Meetings

Type: Quarterly Meeting.

Dates And Times:

October 6, 2008, 8:30 a.m.-5 p.m.

October 7, 2008, 8:30 a.m.-5 p.m.

October 8, 2008, 8:30 a.m.-11 a.m.

Location: Hyatt Regency Crown Center, 2345 McGee Street, Kansas City, Missouri.

Status:

October 6, 2008, 8:30 a.m.-5 p.m.—Open.

October 7, 2008, 8:30 a.m.-4 p.m.—Open.

October 7, 2008, 4:00 p.m.-5 p.m.—Closed Executive Session.

October 8, 2008, 8:30 a.m.-11 a.m.—Open.

Agenda: Public Comment Sessions; Discussions on Emergency Preparedness, Vocational Rehabilitation, Veterans, Healthcare; NCD's Progress Report, Reports from the Chairperson, Council Members, and the Executive Director; Unfinished Business; New Business; Announcements; Adjournment.

Sunshine Act Meeting Contact: Mark S. Quigley, Director of External Affairs, NCD, 1331 F Street, NW., Suite 850, Washington, DC 20004; 202-272-2004 (voice), 202-272-2074 (TTY), 202-272-2022 (fax).

Accommodations: Those needing reasonable accommodations should notify NCD immediately.

Dated: September 10, 2008.
Michael C. Collins,
Executive Director.

[FR Doc. E8-21858 Filed 9-15-08; 4:15 pm]

BILLING CODE 6820-MA-P